DEPARTMENT OF VETERANS AFFAIRS

Veterans' Disability Benefits Commission; Notice of Meeting

The Department of Veterans Affairs (VA) gives notice under (Pub. L. 92-463) (Federal Advisory Committee Act) that the Veterans' Disability Benefits Commission has scheduled a meeting for July 18-20, 2007 at the Washington Plaza Hotel, 10 Thomas Circle, NW., Washington, DC. The meeting sessions will begin at 8:30 a.m. each day and end at 5:15 p.m. on July 18 and 19. The July 20 session will end at 3 p.m. The meeting is open to the public.

The purpose of the Commission is to carry out a study of the benefits under the laws of the United States that are provided to compensate and assist veterans and their survivors for disabilities and deaths attributable to military service.

The agenda for the meeting will feature final decisions on several Issue Papers tentatively approved during previous sessions, continuing discussions and tentative decisions on the Issue Papers addressing Concurrent Receipt and Survivors Concurrent Receipt, and stakeholder input on the three Issue Papers released in June 2007 for public comment. Those three Papers are entitled: Vocational Rehabilitation & Employment, Ancillary and Special Purpose Benefits, and the Transition Report. Draft sections of the Commission's final report and its guiding principles will also be addressed. The Government Accountability Office will brief the Commission on its findings regarding information technology sharing between VA and the Department of Defense (DoD). The Chairman of the Commission on the National Guard and Reserves will present the findings and recommendations of that panel.

The agenda will also feature an overview of the Institute of Medicine (IOM) Committee on Presumptions' final report and discussions of its findings and recommendations with the Commission. The Center for Naval Analyses (CNA) will present its final briefing on the comparison of DoD and VA disability ratings and the Executive Summary of its final report to the Commission. Topics raised in previous sessions will also be discussed at the meeting in great detail to include: a joint VA-DoD disability process; an assessment by the Institute for Defense Analysis of variations in VA ratings; and VA review of IOM final reports on the Post-Traumatic Stress Disorder (PTSD) Diagnosis & Assessment and PTSD Compensation studies.

Interested persons may attend and present oral statements to the Commission on July 18. Oral presentations will be limited to five minutes or less, depending on the number of participants. Interested parties may also provide written comments for review by the Commission prior to the meeting, by e-mail to veterans@vetscommission.com or by mail to Mr. Ray Wilburn, Executive Director, Veterans' Disability Benefits Commission, 1101 Pennsylvania Avenue, NW., 5th Floor, Washington, DC 20004.

Dated: June 20, 2007.
By direction of the Secretary.
E. Philip Riggin,
Committee Management Officer.

[FR Doc. 07-3128 Filed 6-26-07; 8:45 am]

BILLING CODE 8320-01-M